SECURITIES AND EXCHANGE COMMISSION

17 CFR Parts 242 and 249

[Release No. 34-69606; File No. S7-01-13]

RIN 3235-AL43

Regulation Systems Compliance and Integrity

AGENCY: Securities and Exchange Commission.

ACTION: Proposed rule, form, and rule amendment; extension of comment period.

SUMMARY: On March 25, 2013, the Securities and Exchange Commission (“Commission”) published in the Federal Register a proposed rule, Regulation Systems Compliance and Integrity (“Regulation SCI”) under the Securities Exchange Act of 1934, for public comment. Proposed Regulation SCI would apply to certain self-regulatory organizations (including registered clearing agencies), alternative trading systems (“ATSs”), plan processors, and exempt clearing agencies subject to the Commission's Automation Review Policy (collectively, “SCI entities”), and would require these SCI entities to comply with requirements with respect to their automated systems that support the performance of their regulated activities. The Commission is extending the time period in which to provide the Commission with comments.

DATES: The comment period for the proposed rule published March 25, 2013 (78 FR 18084), is extended. Comments should be received on or before July 8, 2013.

ADDRESSES: Comments may be submitted by any of the following methods:

Electronic Comments

• Use the Commission's Internet comment form (http://www.sec.gov/rules/proposed.shtml);

• Send an email to rule-comments@sec.gov. Please include File Number S7-01-13 on the subject line; or

• Use the Federal eRulemaking Portal (http://www.regulations.gov). Follow the instructions for submitting comments.

Paper Comments

• Send paper comments in triplicate to Elizabeth M. Murphy, Secretary, Securities and Exchange Commission, 100 F Street NE., Washington, DC 20549-1090.

All submissions should refer to File Number S7-01-13. This file number should be included on the subject line if email is used. To help us process and review your comments more efficiently, please use only one method. The Commission will post all comments on the Commission's Internet Web site (http://www.sec.gov/rules/proposed). Comments will also be available for Web site viewing and printing in the Commission's Public Reference Room, 100 F Street NE., Washington, DC 20549 on official business days between the hours of 10:00 a.m. and 3:00 p.m. All comments received will be posted without change; we do not edit personal identifying information from submissions. You should submit only information you wish to make available publicly.

FOR FURTHER INFORMATION CONTACT: Heidi Pilpel, Special Counsel, Office of Market Supervision, at (202) 551-5666, Sara Hawkins, Special Counsel, Office of Market Supervision, at (202) 551-5523, Jonathan Balcom, Special Counsel, Office of Market Supervision, at (202) 551-5737, Yue Ding, Attorney, Office of Market Supervision, at (202) 551-5842, Dhawal Sharma, Attorney, Office of Market Supervision, at (202) 551-5779, Elizabeth C. Badawy, Senior Accountant, Office of Market Supervision, at (202) 551-5612, and Gordon Fuller, Senior Special Counsel, Office of Market Operations, at (202) 551-5686, Division of Trading and Markets, Securities and Exchange Commission, 100 F Street NE., Washington, DC 20549-7010.

SUPPLEMENTARY INFORMATION: On March 7, 2013, the Commission voted to propose Regulation SCI and solicit comment on a proposed rule and form, as well as an amendment to Regulation ATS,¹ that would require SCI entities to comply with requirements with respect to their automated systems that support the performance of their regulated activities. The Commission originally requested that comments on this proposal be received by May 24, 2013. The Commission has recently received requests to extend the comment period and believes that extending the comment period is appropriate in order to give the public additional time to comment on the matters addressed by the release.² This extension will allow for 105 days of comment, which the Commission believes should provide the public with sufficient additional time to consider thoroughly the matters addressed by proposed Regulation SCI and to submit comprehensive responses to the proposal which would benefit the Commission in its consideration of the final rules. Therefore, the Commission is extending the public comment period for 45 days, until Monday, July 8, 2013.

¹ See Securities Exchange Act Release No. 69077 (March 8, 2013), 78 FR 18084 (March 25, 2013).

² See Letters from Theodore R. Lazo, Managing Director & Associate General Counsel, SIFMA, to Elizabeth M. Murphy, Secretary, Commission, dated April 25, 2013; Manisha Kimmel, Executive Director, Financial Information Forum, to Elizabeth M. Murphy, Secretary, Commission, dated May 7, 2013; and David T. Bellaire, Esq., Executive Vice President and General Counsel, Financial Services Institute, dated May 15, 2013.

By the Commission.
Dated: May 20, 2013.
Elizabeth M. Murphy,
Secretary.

[FR Doc. 2013-12289 Filed 5-22-13; 8:45 am]

BILLING CODE 8011-01-P